EQUAL EMPLOYMENT OPPORTUNITY COMMISSION

[OMB Number: 3046-0017]

Agency Information Collection Activities: Notice of Submission for OMB Review; Request for Comments

AGENCY: Equal Employment Opportunity Commission.

ACTION: Notice of Information Collection—Uniform Guidelines on Employee Selection Procedures.

SUMMARY: In accordance with the Paperwork Reduction Act of 1995, the Equal Employment Opportunity Commission (EEOC) gives notice of its intent to submit to the Office of Management and Budget (OMB) a request to approve a renewal of an information collection as described below.

DATES: Written comments on this notice must be submitted on or before May 27, 2008.

ADDRESSES: You may submit comments by any of the following methods:

• By mail to: Stephen Llewellyn, Executive Officer, Executive Secretariat, Equal Employment Opportunity Commission, 1801 L Street, NW., Washington, DC 20507.

• By facsimile (“FAX”) machine to: (202) 663-4114. (There is no toll free FAX number). Only comments of six or fewer pages will be accepted via FAX transmittal, in order to assure access to the equipment. Receipt of FAX transmittals will not be acknowledged, except that the sender may request confirmation of receipt by calling the Executive Secretariat staff at (202) 663-4070 (voice) or (202) 663-4074 (TTY). (These are not toll free numbers).

• By the Federal eRulemaking Portal: http://www.regulations.gov. After accessing this Web site, follow its instructions for submitting comments.

Comments need to be submitted in only one of the above-listed formats, not all three. All comments received will be posted without change to http://www.regulations.gov, including any personal information you provide. Copies of the received comments also will be available for inspection in the EEOC Library, FOIA Reading Room, by advance appointment only, from 9 a.m. to 5 p.m., Monday through Friday except legal holidays, from May 27, 2008 until the Commission publishes the 30-day notice for this item. Persons who schedule an appointment in the EEOC Library, FOIA Reading Room, and need assistance to view the comments will be provided with appropriate aids upon request, such as readers or print magnifiers. To schedule an appointment to inspect the comments at the EEOC Library, FOIA Reading Room, contact the EEOC Library by calling (202) 663-4630 (voice) or (202) 663-4641 (TTY). (These are not toll free numbers).

FOR FURTHER INFORMATION CONTACT: Reed L. Russell, Legal Counsel, 1801 L Street, NW., Washington, DC 20507; (202) 663-4638 (voice) or (202) 663-7026 (TTY).

SUPPLEMENTARY INFORMATION:

Introduction

The Equal Employment Opportunity Commission (EEOC or Commission) gives notice of its intent to submit the Uniform Guidelines on Employee Selection Procedures (UGESP or Uniform Guidelines),¹ without change, to the Office of Management and Budget (OMB) for a three-year approval under the Paperwork Reduction Act of 1995 (PRA). A prior PRA document relating to the Uniform Guidelines entitled “Agency Information Collection Activities: Adoption of Additional Questions and Answers To Clarify and Provide a Common Interpretation of the Uniform Guidelines on Employee Selection Procedures as They Relate to the Internet and Related Technologies,” was published in the March 4, 2004 Federal Register. 69 FR 10152. (“March 4, 2004 PRA document”).

¹ 29 CFR part 1607, 41 CFR part 60-3, 28 CFR part 50, 5 CFR part 300.

Based on the comments received to the March 4, 2004 PRA document, the EEOC does not intend to finalize the five additional Questions and Answers that include clarification of the definition of “applicant.” However, employers still must ensure that they are complying with the requirements of UGESP.

The preamble of the March 4, 2004 PRA document stated that “[e]ach agency may provide further information, as appropriate, through the issuance of additional guidance or regulations that will allow each agency to carry out its specific enforcement responsibilities.” 69 FR 10153. The Department of Labor's Office of Federal Contract Compliance Programs then amended its regulations governing applicant recordkeeping requirements “in light of [its] unique use of applicant data for compliance monitoring and other enforcement purposes.” 70 FR 58946.

In light of the EEOC's unique enforcement responsibilities and priorities monitoring employment practices and detecting employment discrimination, it will determine, after further study, how and if it should issue further guidance or regulations clarifying Title VII of the 1964 Civil Rights Act and the Americans with Disabilities Act regarding when employers and job seekers use the Internet and related technologies.

Request for Comments

The EEOC invites comments enabling the agency to:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of Collection

Collection Title: Recordkeeping Requirements of the Uniform Guidelines on Employee Selection Procedures, 29 CFR part 1607, 41 CFR part 60-3, 28 CFR part 50, 5 CFR part 300.

OMB Number: 3046-0017.

Type of Respondent: Businesses or other institutions; federal government; state or local governments and farms.

North American Industry Classification System (NAICS) Code: Multiple.

Standard Industrial Classification Code (SIC): Multiple.

Description of Affected Public: Any employer, government contractor, labor organization, or employment agency covered by the federal equal employment opportunity laws.

Respondents: 846,156.

Responses: 846,156.

Recordkeeping Hours: 14,822,194.89.

Number of Forms: None.

Form Number: None.

Frequency of Report: None.

Abstract: The records addressed by UGESP are used by respondents to assure that they are complying with Title VII and Executive Order 11246; by the federal agencies that enforce Title VII and/or Executive Order 11246 to investigate, conciliate and litigate charges of employment discrimination; and by complainants to establish violations of federal equal employment opportunity laws.

Burden Statement: There are no reporting requirements associated with UGESP. The burden being estimated is the cost of collecting and storing a job applicant's gender, race and ethnicity data. The only paperwork burden derives from this recordkeeping.

Only employers covered under Title VII and Executive Order 11246 are subject to UGESP. For the purpose of burden calculation, employers with 15 or more employees are counted. The number of such employers is estimated at 846,156, which combines estimates from private employment, the public sector, colleges and universities, and referral unions.

This burden assessment is based on an estimate of the total number of job applications submitted to all Title VII-covered employers in one year, including paper-based and electronic applications. The total number of job applications submitted every year to these covered employers is estimated to be 1,778,663,387, which is based on a National Organizations Survey average of 35.225 applications for every hire and a Bureau of Labor Statistics data estimate of 50,490,000 annual hires. It also includes 153,137 applicants for union membership reported on the EEO-3 form for 2006.

The employer burden associated with collecting and storing applicant demographic data is based on the following assumptions: applicants would need to be asked to provide three pieces of information—sex, race/ethnicity, and an identification number (a total of approximately 13 keystrokes); the employer would need to transfer information received to a data base either manually or electronically; and the employer would need to store the 13 characters of information for each applicant. Recordkeeping cost and burden are assumed to be the cost of entering 13 keystrokes.

Assuming that the required recordkeeping takes 30 seconds per record, and assuming a total of 1,778,663,387 paper and electronic applications per year, the resulting UGESP burden hours would be 14,822,195. Based on a wage rate of $12.29 per hour for the individuals entering the data, the collection and storage of applicant demographic data would come to $182,164,777 per year for Title VII-covered employers.

Dated: March 17, 2008.
Naomi C. Earp,
Chair, Equal Employment Opportunity Commission.

[FR Doc. E8-5903 Filed 3-24-08; 8:45 am]

BILLING CODE 6570-01-P